DEPARTMENT OF TRANSPORTATION

Federal Highway Administration

Rescinding the Notice of Intent for an Environmental Impact Statement (EIS): Manassas National Battlefield Park Bypass, Loudon, Fairfax, Fauquier and Prince William Counties, VA

AGENCY: Federal Highway Administration (FHWA), DOT.

ACTION: Rescind notice of intent to prepare an EIS.

SUMMARY: The FHWA is issuing this notice to advise the public that the Notice of Intent (NOI) for the preparation of an EIS to identify and study alternative means of transportation for traffic currently using the two main public roadways (VA Routes 29 and 234) running through the Manassas National Battlefield Park is being rescinded. The NOI was published in the Federal Register on November 1, 2001. A draft EIS was released in January 2005. This rescission is based on a lack of available funding for the proposed new road alignments proposed by this project as well as lack of funding and planning approval for the Bi-County Parkway.

FOR FURTHER INFORMATION CONTACT: Kurt Dowden, Chief of Business Operations, Eastern Federal Lands Highway Division, FHWA, 21400 Ridgetop Circle, Sterling, VA 20166, Telephone (571) 434-1598.

SUPPLEMENTARY INFORMATION: The FHWA in cooperation with the Virginia Department of Transportation, the National Park Service and impacted counties initiated preparation of a study to identify and study alternative means of transportation for vehicular traffic currently using the two main public roadways (VA Routes 29 and 234) running through the Manassas National Battlefield Park. The preferred alternative would utilize the proposed Bi-County Parkway alignment (as independently proposed by VDOT) with a new roadway located outside but adjacent to the park's east and north boundary as a full corridor (for Routes 29 and 234) Battlefield Bypass.

The NOI for the previously notified EIS is being rescinded due to funding constraints for the proposed new road alignments proposed by the Draft EIS. A lack of funding and withdrawal of local planning approval for the Bi-County Parkway make it impossible to create a complete Battlefield Bypass without this essential roadway segment.

Authority: 23 U.S.C. 315; 49 CFR 1.48 rescind.

Issued on: January 31, 2018.
Kurt Dowden,
Chief of Business Operations, Eastern Federal Lands Highway Division, FHWA.

[FR Doc. 2018-02602 Filed 2-8-18; 8:45 am]

BILLING CODE P